Title 3—

The President

Proclamation 8251 of May 2, 2008

National Charter Schools Week, 2008

By the President of the United States of America

A Proclamation

Education is the cornerstone of a hopeful tomorrow. During National Charter Schools Week, we highlight the contributions of charter schools to ensuring that our Nation's future leaders have the skills and knowledge necessary for a lifetime of achievement.

Charter schools are educational alternatives that empower families with additional choices for their children. By providing flexibility to educators while insisting on results, charter schools are helping foster a culture of educational innovation, accountability, and excellence. Charter schools also encourage parental involvement and help contribute to the national effort to close the achievement gap.

The No Child Left Behind Act has played a central role in America's efforts to improve our public schools and expand the opportunities available to our children. In 2007, American students reached record achievement levels on reading and math tests, and the achievement gap is beginning to close. Charter schools have been an important part of this success. National Charter Schools Week is an opportunity to recognize the strength, vitality, and excellence of outstanding schools.

NOW, THEREFORE, I, GEORGE W. BUSH, President of the United States of America, by virtue of the authority vested in me by the Constitution and laws of the United States, do hereby proclaim May 4 through May 10, 2008, as National Charter Schools Week. I applaud our Nation's charter schools and all those who make them a success, and I call on parents of charter school students to share their success stories and help Americans understand more about the important work of charter schools.

IN WITNESS WHEREOF, I have hereunto set my hand this second day of May, in the year of our Lord two thousand eight, and of the Independence of the United States of America the two hundred and thirty-second.

[FR Doc. 08-1236

Filed 5-6-08; 8:45 am]

Billing code 3195-01-P